ENVIRONMENTAL PROTECTION AGENCY

[[FRL-9911-74-Region 6]

Notice of Decision To Issue Clean Air Act Greenhouse Gas PSD Permit for the ExxonMobil Chemical Company Baytown Olefins Plant

AGENCY: Environmental Protection Agency (EPA).

ACTION: Notice of Final Agency Action.

SUMMARY: This notice announces that EPA Region 6 issued a final permit decision for a Clean Air Act Greenhouse Gas (GHG) Prevention of Significant Deterioration (PSD) permit (PSD-TX-102982-GHG) for the ExxonMobil Chemical Company (ExxonMobil) to authorize a construction project at ExxonMobil's existing Baytown Olefins Plant (BOP).

DATES: EPA Region 6 issued a final PSD permit decision to ExxonMobil for the BOP on May 14, 2014. The PSD permit for the BOP became final and effective on May 14, 2014. Pursuant to section 307(b)(1) of the Clean Air Act, 42 U.S.C. 7607(b)(1), judicial review of this final permit decision, to the extent it is available, may be sought by filing a petition for review in the United States Court of Appeals for the Fifth Circuit by August 4, 2014.

ADDRESSES: Documents relevant to the above-referenced permit are available for public inspection during normal business hours at the following address: U.S. Environmental Protection Agency, Region 6, 1445 Ross Avenue, Suite 1200, Dallas, Texas 75202-2733.

FOR FURTHER INFORMATION CONTACT: Aimee Wilson, Air Permits Section (6PD-R), U.S. Environmental Protection Agency, Region 6, (214) 665-7596, wilson.aimee@epa.gov. Key portions of the administrative record for this decision (including the final permit, all public comments, EPA's responses to the public comments, and additional supporting information) are available through a link at Region 6's Web site, http://yosemite.epa.gov/r6/Apermit.nsf/AirP. Anyone who wishes to review the EPA Environmental Appeals Board (EAB or the Board) decision described below or documents in the Board's electronic docket for its decision related to this matter can obtain them at http://www.epa.gov/eab/.

SUPPLEMENTARY INFORMATION: EPA Region 6 issued its final permit decision to ExxonMobil authorizing construction of a major modification at the ExxonMobil BOP, PSD Permit No. PSD-TX-102982-GHG, on May 14, 2014. EPA Region 6 initially issued a final PSD permit decision to ExxonMobil on November 25, 2013. A commenter filed a petition for review of the Region's November 25, 2013, permit decision for the ExxonMobil BOP with the Board. On May 14, 2014, the Board issued an order denying review. See In re ExxonMobil Chemical Company (Baytown Olefins Plant), PSD Appeal No. 13-11, slip op. at 35 (EAB May 14, 2014), 16 E.A.D. _. Following denial of review, pursuant to 40 CFR 124.19(l)(2), EPA Region 6 issued a final permit decision to ExxonMobil on May 14, 2014. All conditions of the BOP GHG PSD permit, Permit No. PSD-TX-102982-GHG, became final and effective on May 14, 2014.

Dated: May 23, 2014.
Wren Stenger,
Director, Multimedia Planning and Permitting Division, EPA Region 6.

[FR Doc. 2014-12930 Filed 6-3-14; 8:45 am]

BILLING CODE 6560-50-P